ARCHITECTURAL AND TRANSPORTATION BARRIERS COMPLIANCE BOARD

36 CFR Part 1195

[Dockets No. 2004-1; 2004-2]

RIN 3014-AA11

Americans With Disabilities Act (ADA) Accessibility Guidelines for Passenger Vessels; Large Vessels; Small Vessels

AGENCY: Architectural and Transportation Barriers Compliance Board.

ACTION: Availability of draft guidelines; advance notice of proposed rulemaking; notice of hearing.

SUMMARY: The Architectural and Transportation Barriers Compliance Board (Access Board) has placed in the docket and on its Web site for public review and comment draft guidelines which address accessibility to and in newly constructed or altered passenger vessels which are permitted to carry more than 150 passengers or more than 49 overnight passengers. The Access Board has also issued an Advance Notice of Proposed Rulemaking which addresses newly constructed or altered passenger vessels which carry 150 or fewer passengers or 49 or fewer overnight passengers. The Access Board will hold two public hearings on June 24, 2005, and July 25, 2005, at the times and locations noted below.

DATES: The Access Board will hold two hearings on the draft guidelines and the Advance Notice of Proposed Rulemaking on Friday June 24, 2005, from 2 p.m. until 5 p.m. and on Monday, July 25, 2005, from 10 a.m. until noon.

ADDRESSES: The hearing on June 24, 2005, will be held at the Beverly Hilton, 9876 Wilshire Boulevard, Beverly Hills, CA. The hearing on July 25, 2005, will be held at the Marriott at Metro Center, 775 12th Street, NW., Washington, DC.

FOR FURTHER INFORMATION CONTACT: Paul Beatty, Office of Technical and Information Services, Architectural and Transportation Barriers Compliance Board, 1331 F Street, NW., suite 1000, Washington, DC 20004-1111. Telephone number (202) 272-0012 (voice); (202) 272-0082 (TTY); electronic mail address: pvag@access-board.gov.

SUPPLEMENTARY INFORMATION:

Notice of Availability of Draft Guidelines for Large Vessels

On November 26, 2004, the Architectural and Transportation Barriers Compliance Board (Access Board) issued a notice of availability of draft guidelines. The draft guidelines address accessibility to and in newly constructed or altered passenger vessels covered by the Americans with Disabilities Act, which are permitted to carry more than 150 passengers or more than 49 overnight passengers (69 FR 69244; November 26, 2004). The notice of availability and the draft guidelines along with supplementary information have been placed in the rulemaking docket and on the Board's Web site (http://www.access-board.gov/pvaac/noa.htm). The Board is soliciting comments on the draft guidelines and will issue a notice of proposed rulemaking (NPRM) following a review of comments received. The deadline for commenting on the draft guidelines was extended by a subsequent notice until July 28, 2005 (70 FR 14435, March 22, 2005).

Advance Notice of Proposed Rulemaking for Small Vessels

Also on November 26, 2004, the Access Board published an Advance Notice of Proposed Rulemaking (ANPRM) in the Federal Register (69 FR 69245; November 26, 2004). The ANPRM addresses the development of accessibility guidelines for newly constructed or altered passenger vessels covered by the Americans with Disabilities Act, which carry 150 or fewer passengers or 49 or fewer overnight passengers. The ANPRM is also on the Board's Web site at http://www.access-board.gov/pvaac/anprm.htm. The deadline for commenting on ANPRM was extended by a subsequent notice until July 28, 2005 (70 FR 14435, March 22, 2005.)

Regulatory Assessment

The Board has also drafted a plan for conducting a regulatory assessment of the passenger vessels guidelines. The plan provides for evaluating the potential impacts of the guidelines on new construction of passenger vessels through case studies, and outlines some methods for examining the impacts of the guidelines on alterations to passenger vessels. The plan is available for public review on the Board's Web site and the Board invites comment on the plan (http://www.access-board.gov/pvaac/assess-plan.htm).

Public Hearings

The Board held an initial public hearing on the draft guidelines for large vessels and the ANPRM for small vessels on January 10, 2005, in Washington DC. The Board will hold two hearings on June 24, 2005, and July 25, 2005, to give the public additional opportunities to provide input on the Board's draft guidelines. Persons wishing to testify are encouraged to contact the Access Board at (202) 272-0012 (voice) or (202) 272-0082 (TTY) to pre-register to attend the hearing. The hearings will be accessible to persons with disabilities. Sign language interpreters, real-time captioning and an assistive listening system will be available. Persons attending the hearings are requested to refrain from using perfume, cologne, and other fragrances for the comfort of other participants.

Department of Transportation

The Department of Transportation (DOT) is conducting a separate rulemaking to adopt the Access Board's guidelines as accessibility standards for passenger vessels covered by the ADA. The DOT rulemaking will also address operational issues related to passenger vessels. DOT issued a separate Advance Notice of Proposed Rulemaking (ANPRM) in the Federal Register on November 26, 2004 (69 FR 69246; November 26, 2004).

Availability of Copies and Electronic Access

Single copies of the passenger vessels rulemaking (Availability of Draft Guidelines, Draft Guidelines and Supplementary Information, Draft Plan for Regulatory Assessment, and ANPRM on Access to and in Small Passenger Vessels) may be obtained at no cost by calling the Access Board's automated publications order line (202) 272-0080, by pressing 2 on the telephone keypad, then 1 and requesting publication S-45. Please record your name, address, telephone number and publication code S-45. Persons using a TTY should call (202) 272-0082. Documents are available in alternate formats upon request. Persons who want a publication in an alternate format should specify the type of format (cassette tape, Braille, large print, or ASCII disk). The documents are also available on the Board's Web site (http://www.access-board.gov).

Lawrence W. Roffee,
Executive Director, Architectural and Transportation Barriers Compliance Board.

[FR Doc. 05-10581 Filed 5-25-05; 8:45 am]

BILLING CODE 8150-01-P